DEPARTMENT OF HEALTH AND HUMAN SERVICES

Centers for Disease Control and Prevention (CDC)

Board of Scientific Counselors, National Center for Environmental Health/Agency for Toxic Substances and Disease Registry (BSC, NCEH/ATSDR), Lead Poisoning Prevention (LPP) Subcommittee

In accordance with section 10(a)(2) of the Federal Advisory Committee Act (Pub. L. 92-463), the CDC, National Center for Environmental Health/Agency for Toxic Substances and Disease Registry (NCEH/ATSDR) announces the following meeting of the aforementioned committee:

Time and date: 9:00 a.m.-12:00 p.m. EDT, June 23, 2017.

Place: The meeting will be accessible by teleconference. Please dial toll free 1-888-790-2009 Passcode: 7865774.

Status: Open to the public, via teleconference line. No limit on number of lines. The public is welcome to participate during the Public Comment period which is scheduled from 11:00 a.m. until 11:15 a.m. EST (15 minutes). Individuals wishing to make a comment during Public Comment period, please email your name, organization, and phone number by Monday, June 15, 2017 to Amanda Malasky at AMalasky@cdc.gov.

Purpose: The subcommittee will discuss strategies and options on ways to prioritize NCEH/ATSDR's activities, improve health outcomes, and address health disparities as it relates to lead exposures. The subcommittee will deliberate on ways to evaluate lead exposure and how to best conduct health evaluations through exposure and epidemiologic studies. Subcommittee proposals on lead prevention practices and national lead poisoning prevention efforts will be provided to the Board of Scientific Counselors for deliberation and possible adoption as formal recommendations to NCEH/ATSDR.

Matters for Discussion: Agenda items will include the following: Lead Poisoning Prevention Program (status), Flint Registry (status), Revision of Blood Lead Level reference value (status), Discussion of legislative requirements of a new Lead Exposure and Prevention Federal Advisory Committee, Federal partnership efforts.

Agenda items are subject to change as priorities dictate.

Contact Person for More Information: Amanda Malasky, Coordinator, Lead Poisoning Prevention Subcommittee, BSC, NCEH/ATSDR, 4770 Buford Highway, Mail Stop F-45, Chamblee, Georgia 30345; telephone 770/488-7699, Fax: 770/488-3377; Email: AMalasky@cdc.gov.

The Director, Management Analysis and Services Office has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-10333 Filed 5-19-17; 8:45 am]

BILLING CODE 4163-18-P